DEPARTMENT OF TRANSPORTATION

Surface Transportation Board

[Docket No. FD 35812]

Central Puget Sound Regional Transit Authority—Acquisition Exemption—Certain Assets of City of Tacoma in Pierce County, Wash.

The Central Puget Sound Regional Transit Authority (Sound Transit), a noncarrier, has filed a verified notice of exemption under 49 CFR 1150.31 to acquire from the City of Tacoma the physical assets and right-of-way of an approximately one-mile segment of the rail line commonly known as the Mountain Division, approximately located between milepost 1.0, at the BNSF Railway Company mainline near the Port of Tacoma, and milepost 1.99, at East D Street in the City of Tacoma, Pierce County, Wash. (the Tacoma Dome Segment). According to Sound Transit, the City of Tacoma, through its Department of Public Utilities, d/b/a Tacoma Rail, operates rail service over the Tacoma Dome Segment pursuant to an operating agreement with the General Government of the City of Tacoma, another subdivision of the city that owns the real property and physical assets comprising the Tacoma Dome Segment. Sound Transit states that, under the proposed transaction, it would not acquire any right or obligation to provide freight service on the Tacoma Dome Segment and that Tacoma Rail would retain the exclusive, permanent right to operate freight service on the Tacoma Dome Segment to all existing and new customers, even after Sound Transit acquires the Tacoma Dome Segment.¹

¹ A motion to dismiss the notice of exemption on grounds that the transaction does not require authorization from the Board was concurrently filed with this notice of exemption. The motion to dismiss will be addressed in a subsequent Board decision.

Sound Transit states that it is in the final stage of negotiating a Purchase and Sale Agreement and Joint Use Agreement for the Tacoma Dome Segment with the City of Tacoma. According to Sound Transit, it is acquiring the Tacoma Dome Segment for the purpose of providing wholly intrastate passenger commuter rail operations and would not acquire any freight operating rights. Sound Transit also states that no interchange agreements, and no limitation on any future interchange agreements, are being imposed in connection with the proposed transaction.

Sound Transit certifies that, because it will conduct no freight operations on the line segment being acquired, its revenues from freight operations will not result in the creation of a Class I or Class II carrier.

Sound Transit states that it expects to consummate the proposed transaction on or as soon as practicable after the effective date of the exemption, May 15, 2014 (30 days after the exemption is filed).

If the verified notice contains false or misleading information, the exemption is void ab initio. Petitions to revoke the exemption under 49 U.S.C. 10502(d) may be filed at any time. The filing of a petition to revoke will not automatically stay the effectiveness of the exemption. Petitions to stay must be filed no later than May 8, 2014 (at least seven days before the exemption becomes effective).

An original and ten copies of all pleadings, referring to Docket No. FD 35812, must be filed with the Surface Transportation Board, 395 E Street SW., Washington, DC 20423-0001. In addition, a copy of each pleading must be served on Charles A. Spitulnik, Kaplan Kirsch & Rockwell LLP, 1001 Connecticut Avenue NW., Suite 800, Washington, DC 20036.

Board decisions and notices are available on our Web site at www.stb.dot.gov.

Decided: April 28, 2014.
By the Board, Rachel D. Campbell, Director, Office of Proceedings.
Derrick A. Gardner,
Clearance Clerk.

[FR Doc. 2014-09978 Filed 4-30-14; 8:45 am]

BILLING CODE 4915-01-P